DEPARTMENT OF COMMERCE

National Oceanic and Atmospheric Administration

[RTID 0648-XA651]

Caribbean Fishery Management Council; Public Meeting

AGENCY: National Marine Fisheries Service (NMFS), National Oceanic and Atmospheric Administration (NOAA), Commerce.

ACTION: Notice of public meeting.

SUMMARY: The Caribbean Fishery Management Council (CFMC) will hold the 172nd public meeting (virtual) to address the items contained in the tentative agenda included in SUPPLEMENTARY INFORMATION.

DATES: The 172nd CFMC public meeting (virtual) will be held on December 8, 2020, from 1 p.m. to 4:45 p.m., and on December 9, 2020, from 9 a.m. to 12:30 p.m. The meeting will be at AST (U.S. Caribbean time.)

ADDRESSES: You may join the 172nd CFMC public meeting (virtual) via Zoom, from a computer, tablet or smartphone by entering the following address:

Join Zoom Meeting: https://us02web.zoom.us/j/83060685915?pwd=VmVsc1orSUtKck8xYk1XOXNDY1ErZz09.

Meeting ID: 830 6068 5915.

Passcode: 995658.

One tap mobile:

+17879451488, ,83060685915#,,,,,,0#, ,995658# Puerto Rico

+17879667727, ,83060685915#,,,,,,0#, ,995658# Puerto Rico

Dial by your location:

+1 787 945 1488 Puerto Rico

+1 787 966 7727 Puerto Rico

+1 939 945 0244 Puerto Rico

Meeting ID: 830 6068 5915.

Passcode: 995658.

In case there are problems and we cannot reconnect via Zoom, the meeting will continue using GoToMeeting.

You can join the meeting from your computer, tablet or smartphone. https://global.gotomeeting.com/join/971749317. You can also dial in using your phone. United States: +1 (408) 650-3123. Access Code: 971-749-317.

FOR FURTHER INFORMATION CONTACT: Miguel Rolón, Executive Director, Caribbean Fishery Management Council, 270 Muñoz Rivera Avenue, Suite 401, San Juan, Puerto Rico 00918-1903, telephone: (787) 398-3717.

SUPPLEMENTARY INFORMATION: The following items included in the tentative agenda will be discussed:

December 8, 2020, 1 p.m.-1:30 p.m.

—Call to Order

—Roll Call

—Adoption of Agenda

—Consideration of 171st Council Meeting Verbatim Transcriptions

—Executive Director's Report

December 8, 2020, 1:30 p.m.-1:45 p.m.

—Five-Year Strategic Plan Update—Michelle Duval

December 8, 2020, 1:45 p.m.-2 p.m.

—Scientific and Statistical Committee (SSC) Report on July 27-28, 2020, Meeting- Richard Appeldoorn

—Ecosystem Conceptual Model (ECM) update

—Constant Catch recommendation

December 8, 2020, 2 p.m.-3:30 p.m.

—Spiny Lobster Framework Amendment—Sarah Stephenson

—Gear Amendment to the Island-Based FMPs, Deep-water Snapper Gear Options Paper—Maria Lopez

—Ecosystem-Based Fishery Management Technical Advisory Panel Report—Sennai Habtes

December 8, 2020, 3:30 p.m.-3:45 p.m.

—St. Croix Territory/Federal Compatible Fishing Regulations—Carlos Farchette

December 8, 2020, 3:45 p.m.-4 p.m.

—Squid Fishing Project—Raimundo Espinoza

December 8, 2020, 4 p.m.-4:20 p.m.

—Assessment of COVID-19 Impact on Commercial Fishing Associations in Puerto Rico—Marcos Hanke

December 8, 2020, 4:20 p.m.-4:30 p.m.

—Queen Conch Rebuilding Plan—Next Steps—NMFS

December 8, 2020, 4:30 p.m.-4:45 p.m.

—Public Comment Period (5-minute presentations)

December 8, 2020, 4:45 p.m.

—Adjourn

December 9, 2020, 9 a.m.-9:15 a.m.

—Deepwater Snappers and Reef Fishes in the U.S. Caribbean: Aging Validation Using Bomb Radiocarbon and Preliminary Longevity Estimates—Virginia Shervette

December 9, 2020, 9:15 a.m.-9:30 a.m.

—Research on Queen Snapper in Puerto Rico—Kate Overly

December 9, 2020, 9:30 a.m.-9:45 a.m.

—Queen triggerfish reproductive biology in the U.S. Caribbean—Jesús Rivera Hernández

December 9, 2020, 9:45 a.m.-10:15 a.m.

—Outreach and Education Advisory Panel Report—Alida Ortíz

December 9, 2020, 10:15 a.m.-11:15 a.m.

—Enforcement (15 minutes each)

—Puerto Rico—Department of Natural and Environmental Resources (DNER)

—U.S.V. I.—Department of Planning and Natural Resources (DPNR)

—U.S. Coast Guard

—NOAA Fisheries Office of Law Enforcement

December 9, 2020, 11:15 a.m.-11:30 a.m.

—Other Business

—Julian Magras Presentation

December 9, 2020, 11:30 a.m.-12:30 p.m.

—Public Comment Period (5-minute presentations)

December 9, 2020, 12:30 p.m.

—Adjourn

The order of business may be adjusted as necessary to accommodate the completion of agenda items. The meeting will begin on December 8, 2020, at 1 p.m. AST, and will end on December 9, 2020, at 12:30 p.m. AST. Other than the start time on the first day of the meeting, interested parties should be aware that discussions may start earlier or later than indicated in the agenda, at the discretion of the Chair.

Special Accommodations

Simultaneous interpretation will be provided.

Se proveerá interpretación en español.

Para interpretación en español puede marcar el siguiente número para entrar a la reunión:

US/Canadá: llame al +1-888-947-3988, cuando el sistema conteste, entrar el número 1*999996#.

For English interpretation you may dial the following number to enter the meeting:

US/Canada: call +1-888-947-3988, when the system answers enter the number 2*999996#.

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: November 16, 2020.
Rey Israel Marquez,
Acting Deputy Director, Office of Sustainable Fisheries, National Marine Fisheries Service.

[FR Doc. 2020-25587 Filed 11-18-20; 8:45 am]

BILLING CODE 3510-22-P